DEPARTMENT OF THE INTERIOR

Bureau of Land Management

[ID-220-5101-ER-D025; IDI-33676]

Notice of Availability (NOA), Final Environmental Impact Statement for the Proposed Cotterel Wind Power Project and Proposed Resource Management Plan Amendment, Burley Field Office, Cassia County, ID

AGENCY: Bureau of Land Management, Interior.

ACTION: Notice of Availability (NOA).

SUMMARY: In accordance with the National Environmental Policy Act of 1969 and the Federal Land Policy and Management Act of 1976, the Burley Field Office of the Bureau of Land Management (BLM) has prepared a Final Environmental Impact Statement (FEIS) for the Proposed Cotterel Mountain Wind Power Project and Proposed Resource Management Plan Amendment.

DATES: No decision on the Proposed Plan Amendment will be made for at least 30 days after the Environmental Protection Agency (EPA) publishes the NOA of this FEIS/Proposed Plan Amendment in the Federal Register. BLM regulations (43 CFR 1610.5-2) state that any person who participated in the planning process and has an interest that may be adversely affected may protest the proposed decision that would be implemented on BLM administered land. The proposed decision which may be protested under this notice is the Proposed Plan Amendment. The protest must be filed within 30 days of the date that the EPA publishes its NOA. Instructions for filing protests are included in the SUPPLEMENTARY INFORMATION section of this notice.

ADDRESSES: The FEIS/Proposed Plan Amendment has been mailed in hard copy to those who participated in the planning process by providing comments on the Draft Environmental Impact Statement (DEIS)/Draft Plan Amendment. Additional copies in both paper and digital format are available in limited numbers. To receive a copy, refer to the FOR FURTHER INFORMATION CONTACT section below. The FEIS/Proposed Plan Amendment is also posted to the Internet at http://www.id.blm.gov/planning/cotterel.

FOR FURTHER INFORMATION CONTACT: Scott Barker, Project Manager, BLM Burley Field Office, 15 East, 200 South, Burley, Idaho 83318, phone 208-677-6678, fax (209) 677-6699; or e-mail: scott_barker@blm.gov.

SUPPLEMENTARY INFORMATION: Windland, Inc. in partnership with Shell Wind Energy, Inc., a wholly owned subsidiary of the Royal Dutch/Shell Group of Companies, is proposing to construct, operate, and maintain a wind-powered electric generation facility on the ridgeline of Cotterel Mountain, near the towns of Albion, Malta, and Burley, Idaho. The FEIS/Proposed Plan Amendment presents comments received on the DEIS/Draft Plan Amendment and associated responses to those comments. Four alternatives are analyzed in this FEIS/Proposed Plan Amendment and the effects disclosed. Alternative A, the No Action Alternative, reflects existing Resource Management Plan direction. Alternative B is the proponent's Proposed Action as submitted in their right-of-way application. Alternative C, is a modification of the Proposed Action which includes fewer but larger output wind turbines, alternative access, alternative transmission line locations, and alternative turbine types. Alternative D is a modified version of Alternative C with a reduced number of wind turbines.

Alternatives B, C, and D are not consistent with the Cassia RMP, which does not allow for the granting of rights-of-way in the proposed project area. The Proposed Plan Amendment would allow the decision maker to grant a right-of-way should that person decide to do so. The proposed decision is to amend the Cassia RMP by implementing Alternative C. Protests must address the proposed decision to amend the Cassia RMP.

Protests regarding proposed decisions affecting BLM administered lands must be in writing and filed with the BLM Director. Protests may raise only those issues that were submitted for the record during the planning process. Email and faxed protests will not be accepted as valid protests unless the protesting party also provides the original letter by either regular or overnight mail postmarked by the close of the protest period. Under these conditions, the BLM will consider the email or faxed protest as an advance copy, and it will receive full consideration. If you wish to provide the BLM with such advance notification, please direct faxed protests to the attention of the BLM Protest Coordinator at (202) 452-5112 and e-mails to Brenda_Hudgens-Williams@blm.gov. Please direct the follow up letters to the appropriate address provided below. To be considered complete, your protest must contain at minimum, the following information: (1) The name, mailing address, telephone number, and interest of the person filing the protest; (2) a statement of the issue or issues being protested; (3) a statement of the part or parts of the Proposed Plan Amendment being protested; (4) a copy of all documents addressing the issue or issues that were submitted during the planning process by the protesting party or an indication of the date the issue or issues were discussed for the record; and (5) a concise statement explaining why the Director's proposed decision is believed to be wrong. A protest merely expressing disagreement with the Director's proposed decision without providing any supporting data will not be considered a valid protest. All written protests must be sent to one of the following addresses: Regular Mail, Director, WO-210/LS-1075, Bureau of Land Management, Attn: Brenda Hudgens-Williams, Department of the Interior, P.O. Box 66538, Washington, DC 20035, or Overnight Mail, Director, WO-210/LS-1075, Bureau of Land Management, Attn: Brenda Hudgens-Williams, Department of the Interior, 1620 L Street, NW., Suite 1075, Washington, DC 20036.

To be considered timely, your protest must be postmarked no later than the last day of the protest period. Though not a requirement, it is suggested that protests be sent by certified mail, return receipt requested. You are also encouraged, but not required, to forward a copy of your protest to the project manager at the address listed above under FOR FURTHER INFORMATION CONTACT. This may allow the BLM to resolve the protest through clarification of intent or discussion with the protestor.

Please note that protests, including names and street addresses are available for public review and/or release under the Freedom of Information Act (FOIA). Individual respondents may request confidentiality. Respondents who wish to withhold their name and/or street address from public review or from disclosure under FOIA must state so prominently at the beginning of the written correspondence. Such requests will be honored to the extent allowed by law. All submissions from organizations or businesses, and from individuals identifying themselves as representing organizations or businesses, will be made available for public inspection in their entirety. Following resolution of any protests of the proposed decision, a record of decision (ROD) will be signed by the Assistant Director of the Bureau of Land Management. A NOA of the ROD will be published in the Federal Register and through local news media.

Cooperating Agencies: U.S. Fish and Wildlife Service, Interior; Bureau of Reclamation, Interior; Bonneville Power Administration, Energy; Idaho Department of Lands; Cassia County Commissioners. Participating Agency Idaho Department of Fish and Game.

Dated: February 9, 2006.
Kenneth E. Miller,
Burley Field Office Manager, Bureau of Land Management.

[FR Doc. E6-4663 Filed 3-30-06; 8:45 am]

BILLING CODE 4310-GG-P